DEPARTMENT OF TRANSPORTATION

Federal Aviation Administration

14 CFR Part 71

Docket No. FAA-2014-0273; Airspace Docket No. 14-ANE-2

RIN 2120-AA66

Amendment of Air Traffic Service (ATS) Routes; Northeast ME

AGENCY: Federal Aviation Administration (FAA), DOT.

ACTION: Final rule.

SUMMARY: This action modifies VOR Federal airways V-93, V-314, and V-471; and RNAV route T-295 in northeastern Maine due to the scheduled decommissioning of the Princeton, ME, VOR facility. In addition, an analysis of the airway structure in that area found that some segments of the affected routes are rarely utilized and are therefore being removed.

DATES: Effective date 0901 UTC, November 13, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030 or go to http://archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

History

The FAA published in the Federal Register a notice of proposed rulemaking (NPRM) to amend three VOR Federal airways and one area navigation route in northeastern Maine (79 FR 29138, May 21, 2014). Interested parties were invited to participate in this rulemaking effort by submitting written comments on the proposal. No comments were received.

The Rule

This action amends Title 14, Code of Federal Regulations (14 CFR) part 71 by modifying the descriptions of VOR Federal airways V-93, V-314, V-471 and RNAV route T-295 due to the planned decommissioning of the Princeton VOR in Maine.

An analysis of the airway structure in northeastern Maine found that some segments of the affected routes airways are rarely utilized. After coordination with Boston Air Route Traffic Control Center, Bangor Airport Traffic Control Tower, and Moncton Center (Canada), the FAA is removing the underutilized segments of the affected routes. The changes are described below.

V-93 extends between Patuxent River, MD, and the intersection of the Princeton, ME, 157° radial and the United States/Canadian border. The FAA is terminating the route at the Bangor, ME, VORTAC (BGR), eliminating the route segments between BGR and the United States/Canadian border.

V-314 extends from Quebec, PQ, Canada, through United States airspace, to St. John, NB, Canada. This action terminates the route at Millinocket, ME, and eliminates the segments between Millinocket, Princeton, ME, and St. John, NB, Canada.

V-471 extends between the intersection of the Princeton, ME, 208° and the Bangor, ME, 132° radials (i.e., the charted BARHA fix) and the intersection of the Houlton, ME, 085° radial and the United States/Canadian border. This action removes the route segment between the Bangor VORTAC and the BARHA fix.

T-295 extends between the LOUIE, MD, fix and the Princeton, ME, VOR. The amended route terminates at Bangor, ME, eliminating the segment between Bangor and Princeton, ME.

VOR Federal airways are published in paragraph 6010(a); and low altitude RNAV routes are published in paragraph 6011, respectively, of FAA Order 7400.9X dated August 7, 2013, and effective September 15, 2013, which is incorporated by reference in 14 CFR 71.1. The VOR Federal airways and area navigation route listed in this document will be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation because the anticipated impact is so minimal. Since this is a routine matter that only affects air traffic procedures and air navigation, it is certified that this rule does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority because it modifies the route structure as required to preserve the safe and efficient flow of air traffic in northeastern Maine.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010(a)—VOR Federal Airways

V-93 [Amended]

From Patuxent River, MD, INT Patuxent 013° and Baltimore, MD, 122° radials; Baltimore; INT Baltimore 004° and Lancaster, PA, 214° radials; Lancaster; Wilkes-Barre, PA; to INT Wilkes-Barre 037° and Sparta, NJ 300° radials. From INT Sparta 018° and Kingston, NY, 270° radials; Kingston; Pawling, NY; Chester, MA, 12 miles 7 miles wide (4 miles E and 3 miles W of centerline); Keene, NH; Concord, NH; Kennebunk, ME; INT Kennebunk 045° and Bangor, ME, 220° radials; to Bangor.

V-314 [Amended]

From Quebec, PQ, Canada, 99 miles 55 MSL, to Millinocket, ME, excluding the airspace within Canada.

V-471 [Amended]

From Bangor, ME; Millinocket, ME; Houlton, ME; INT Houlton 085° radial and the United States/Canadian border.

* * * * *

Paragraph 6011 United States Area Navigation Routes

T-295 LOUIE, MD to Bangor, ME (BGR) [Amended]
LOUIE, MD | FIX | (Lat. 38°36′44″ N., long. 076°18′04″ W.)
BAABS, MD | WP | (Lat. 39°19′51″ N., long. 076°24′41″ W.)
Lancaster, PA (LRP) | VORTAC | (Lat. 40°07′12″ N., long. 076°17′29″ W.)
Wilkes-Barre, PA (LVZ) | VORTAC | (Lat. 41°16′22″ N., long. 075°41′22″ W.)
LAAYK, PA | FIX | (Lat. 41°28′33″ N., long. 075°28′57″ W.)
SAGES, NY | FIX | (Lat. 42°02′46″ N., long. 074°19′10″ W.)
SASHA, MA | FIX | (Lat. 42°07′59″ N., long. 073°08′55″ W.)
Keene, NH (EEN) | VORTAC | (Lat. 42°47′39″ N., long. 072°17′30″ W.)
Concord, NH (CON) | VORTAC | (Lat. 43°13′11″ N., long. 071°34′32″ W.)
Kennebunk, ME (ENE) | VOR/DME | (Lat. 43°25′32″ N., long. 070°36′49″ W.)
BRNNS, ME | FIX | (Lat. 43°54′09″ N., long. 069°56′43″ W.)
Bangor, ME (BGR) | VORTAC | (Lat. 44°50′30″ N., long. 068°52′26″ W.)

Issued in Washington, DC, on September 8, 2014.
Ellen Crum,
Acting Manager, Airspace Policy and Regulations Group.

[FR Doc. 2014-21801 Filed 9-12-14; 8:45 am]

BILLING CODE 4910-13-P